DEPARTMENT OF DEFENSE

Office of the Secretary

[Docket ID: DOD-2010-OS-0073]

Privacy Act of 1974; System of Records

AGENCY: Defense Intelligence Agency, DoD.

ACTION: Notice to alter a system of records.

SUMMARY: The Defense Intelligence Agency is proposing to alter a system of records in its existing inventory of records systems subject to the Privacy Act of 1974, (5 U.S.C. 552a), as amended.

DATES: This proposed action will be effective without further notice on July 2, 2010, unless comments are received which result in a contrary determination.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Theresa Lowery at (202) 231-1193.

SUPPLEMENTARY INFORMATION: The Defense Intelligence Agency system of records notices subject to the Privacy Act of 1974, (5 U.S.C. 552a), as amended, have been published in the Federal Register and are available from the Defense Intelligence Agency, DAN 1-C, 200 MacDill Blvd., Washington, DC 20340-0001.

The proposed system report, as required by 5 U.S.C. 552a of the Privacy Act of 1974, as amended, was submitted on May 21, 2010, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996; 61 FR 6427).

Dated: May 28, 2010.
Mitchell S. Bryman,
Alternate OSD Federal Register Liaison Officer, Department of Defense.

LDIA 0271

System name:

Investigations and Complaints (April 10, 2008; 73 FR 19477).

Changes:

* * * * *

Categories of individuals covered by the system:

Delete entry and replace with “Current and former civilian, military, or contract personnel who file a complaint or were the subject of an investigation conducted by the agency.”

Categories of records in the system:

Delete entry and replace with “Name, Social Security Number (SSN), date of birth, telephone number and address; documents relating to the organization, planning and execution of audits, inspections, or investigations.”

Authority for maintenance of the system:

Delete entry and replace with “Public Law 95-452, The Inspector General Act of 1978, as amended; DoD Instruction 5106.3, Inspector General of the Department of Defense; DIA Directive 5100.200, Office of the Inspector General Policies and Procedures; and E.O. 9397 (SSN), as amended.”

Purpose(s):

Delete entry and replace with “Information is collected to determine the facts and circumstances surrounding a compliant filed with the Office of the Inspector General and to allow for the documentation of records relating to the organization, planning, and execution of audits, inspections and investigations and for use as a sound basis for action.”

* * * * *

Retrievability:

Delete entry and replace with “By name and/or case number.”

* * * * *

Notification procedure:

Delete entry and replace with “Individuals seeking to determine whether information about themselves is contained in this system of records should address written inquiries to the Freedom of Information Act Office (DAN-1A/FOIA), Defense Intelligence Agency, 200 MacDill Blvd, Washington, DC 20340-5100.

Individual should provide their full name, current address, and telephone number.”

Record access procedures:

Delete entry and replace with “Individuals seeking access to information about themselves contained in this system should address written inquiries to the Freedom of Information Act Office (DAN-1A/FOIA), Defense Intelligence Agency, 200 MacDill Blvd, Washington, DC 20340-5100.

Individual should provide their full name, current address, and telephone number.”

* * * * *

Record source categories:

Delete entry and replace with “From individuals of an investigation or complaint, records also derived from personnel, medical and/or security records as well as agency officials.”

Exemptions claimed for the system:

Delete entry and replace with “Parts of this system may be exempt under 5 U.S.C. 552a(k)(2), (k)(5), or (k)(7), as applicable.

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source. Note: When claimed, this exemption allows limited protection of investigative reports maintained in a system of records used in personnel or administrative actions.

Investigatory material compiled solely for the purpose of determining suitability, eligibility, or qualifications for federal civilian employment, military service, federal contracts, or access to classified information may be exempt pursuant to 5 U.S.C. 552a(k)(5), but only to the extent that such material would reveal the identity of a confidential source.

Evaluation material used to determine potential for promotion in the Military Services may be exempt pursuant to 5 U.S.C. 552a(k)(7), but only to the extent that the disclosure of such material would reveal the identity of a confidential source.

An exemption rule for this exemption has been promulgated in accordance with requirements of 5 U.S.C. 553(b)(1), (2), and (3), (c) and (e) and published in 32 CFR part 505. For additional information contact the system manager.”

LDIA 0271

System name:

Investigations and Complaints.

System location:

Defense Intelligence Agency, Washington, DC 20340-5100.

Categories of individuals covered by the system:

Current and former civilian, military, or contract personnel who file a complaint or were the subject of an investigation conducted by the agency.

Categories of records in the system:

Name, Social Security Number (SSN), date of birth, telephone number and address; documents relating to the organization, planning and execution of audits, inspections, or investigations.

Authority for maintenance of the system:

Public Law 95-452, The Inspector General Act of 1978, as amended; DoD Instruction 5106.3, Inspector General of the Department of Defense; DIA Directive 5100.200, Office of the Inspector General Policies and Procedures; and E.O. 9397 (SSN), as amended.

Purpose(s):

Information is collected to determine the facts and circumstances surrounding a compliant filed with the Office of the Inspector General and to allow for the documentation of records relating to the organization, planning, and execution of audits, inspections and investigations and for use as a sound basis for action.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD ‘Blanket Routine Uses' set forth at the beginning of the DIA's compilation of systems of records notices apply to this system.

Policies and practices for storing, retrieving, accessing, retaining, and disposing of records in the system:

Storage:

Paper records in file folders and electronic storage media.

Retrievability:

By name and/or case number.

Safeguards:

Records are stored in office buildings protected by guards, controlled screenings, use of visitor registers, electronic access, and/or locks. Access to records is limited to individuals who are properly screened and cleared on a need-to-know basis in the performance of their duties. Passwords and User IDs are used to control access to the system data, and procedures are in place to deter and detect browsing and unauthorized access. Physical and electronic access is limited to persons responsible for servicing and authorized to use the system.

Retention and disposal:

Permanent—Maintain audits and inspections on site for 3 years, then transfer to the Washington National Records Center (WNRC), then retire to the National Archives Records Administration when 20 years old.

System manager(s) and address:

Director, Inspector General's Office, Defense Intelligence Agency, Washington, DC 20340-5100.

Notification procedure:

Individuals seeking to determine whether information about themselves is contained in this system of records should address written inquiries to the Freedom of Information Act Office (DAN-1A/FOIA), Defense Intelligence Agency, 200 MacDill Blvd, Washington DC 20340-5100.

Individual should provide their full name, current address, and telephone number.

Record access procedures:

Individuals seeking access to information about themselves contained in this system should address written inquiries to the Freedom of Information Act Office (DAN-1A/FOIA), Defense Intelligence Agency, 200 MacDill Blvd, Washington, DC 20340-5100.

Individual should provide their full name, current address, and telephone number.

Contesting record procedures:

DIA's rules for accessing records, for contesting contents and appealing initial agency determinations are published in DIA Instruction 5400.001 “Defense Intelligence Agency Privacy Act Program;” 32 CFR part 319—Defense Intelligence Agency Privacy Program; or may be obtained from the system manager.

Record source categories:

From individuals of an investigation or complaint, records also derived from personnel, medical and/or security records as well as agency officials.

Exemptions claimed for the system:

Parts of this system may be exempt under 5 U.S.C. 552a(k)(2), (k)(5), or (k)(7), as applicable.

Investigatory material compiled for law enforcement purposes, other than material within the scope of subsection 5 U.S.C. 552a(j)(2), may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source. NOTE: When claimed, this exemption allows limited protection of investigative reports maintained in a system of records used in personnel or administrative actions.

Investigatory material compiled solely for the purpose of determining suitability, eligibility, or qualifications for federal civilian employment, military service, federal contracts, or access to classified information may be exempt pursuant to 5 U.S.C. 552a(k)(5), but only to the extent that such material would reveal the identity of a confidential source.

Evaluation material used to determine potential for promotion in the Military Services may be exempt pursuant to 5 U.S.C. 552a(k)(7), but only to the extent that the disclosure of such material would reveal the identity of a confidential source.

An exemption rule for this exemption has been promulgated in accordance with requirements of 5 U.S.C. 553(b)(1), (2), and (3), (c) and (e) and published in 32 CFR part 505. For additional information contact the system manager.

[FR Doc. 2010-13299 Filed 6-1-10; 8:45 am]

BILLING CODE 5001-06-P